DEPARTMENT OF HOMELAND SECURITY

U.S. Immigration and Customs Enforcement

[Docket No. ICEB-2022-0015]

RIN 1653-ZA35

Employment Authorization for Somali F-1 Nonimmigrant Students Experiencing Severe Economic Hardship as a Direct Result of the Current Crisis in Somalia

AGENCY: U.S. Immigration and Customs Enforcement; Department of Homeland Security.

ACTION: Notice.

SUMMARY: This notice announces that the Secretary of Homeland Security (Secretary) is suspending certain regulatory requirements for F-1 nonimmigrant students whose country of citizenship is Somalia, regardless of country of birth (or individuals having no nationality who last habitually resided in Somalia), and who are experiencing severe economic hardship as a direct result of the current crisis in Somalia. The Secretary is taking action to provide relief to these Somali students who are lawful F-1 nonimmigrant students so the students may request employment authorization, work an increased number of hours while school is in session, and reduce their course load while continuing to maintain their F-1 nonimmigrant student status. The U.S. Department of Homeland Security (DHS) will deem an F-1 nonimmigrant student granted employment authorization by means of this notice to be engaged in a “full course of study” for the duration of the employment authorization, if the nonimmigrant student satisfies the minimum course load requirement described in this notice.

DATES: This action is effective March 18, 2023, through September 17, 2024.

FOR FURTHER INFORMATION CONTACT: Sharon Snyder, Unit Chief, Policy and Response Unit, Student and Exchange Visitor Program, MS 5600, U.S. Immigration and Customs Enforcement, 500 12th Street SW, Washington, DC 20536-5600; email: sevp@ice.dhs.gov, telephone: (703) 603-3400. This is not a toll-free number. Program information can be found at https://www.ice.gov/sevis/.

SUPPLEMENTARY INFORMATION:

What action is DHS taking under this notice?

The Secretary is exercising authority under 8 CFR 214.2(f)(9) to temporarily suspend the applicability of certain requirements governing on-campus and off-campus employment for F-1 nonimmigrant students whose country of citizenship is Somalia, regardless of country of birth (or individuals having no nationality who last habitually resided in Somalia), who are present in the United States in lawful F-1 nonimmigrant student status on the date of publication of this notice, and who are experiencing severe economic hardship as a direct result of the current crisis in Somalia. The original notice, which applied to F-1 nonimmigrant students who met certain criteria, including having been lawfully present in the United States in F-1 nonimmigrant status on September 18, 2021, became effective from September 18, 2021, until March 17, 2023. See 86 FR 38739 (July 22, 2021). Effective with this publication, suspension of the employment limitations is available through September 17, 2024, for those who are in lawful F-1 nonimmigrant status on the date of publication of this notice. DHS will deem an F-1 nonimmigrant student granted employment authorization through this notice to be engaged in a “full course of study” for the duration of the employment authorization, if the student satisfies the minimum course load set forth in this notice.¹ See 8 CFR 214.2(f)(6)(i)(F).

¹ Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of September 17, 2024, provided the student satisfies the minimum course load requirements in this notice. DHS also considers students who engage in online coursework pursuant to U.S. Immigration and Customs Enforcement (ICE) coronavirus disease 2019 (COVID-19) guidance for nonimmigrant students to be in compliance with regulations while such guidance remains in effect. See ICE Guidance and Frequently Asked Questions on COVID-19, Nonimmigrant Students & SEVP-Certified Schools: Frequently Asked Questions, https://www.ice.gov/coronavirus (last visited Nov. 23, 2022).

Who is covered by this notice?

This notice applies exclusively to F-1 nonimmigrant students who meet all of the following conditions:

(1) Are a citizen of Somalia regardless of country of birth (or an individual having no nationality who last habitually resided in Somalia);

(2) Were lawfully present in the United States on the date of publication of this notice in F-1 nonimmigrant status under section 101(a)(15)(F)(i) of the Immigration and Nationality Act (INA), 8 U.S.C. 1101(a)(15)(F)(i);

(3) Are enrolled in an academic institution that is Student and Exchange Visitor Program (SEVP)-certified for enrollment for F-1 nonimmigrant students;

(4) Are currently maintaining F-1 nonimmigrant status; and

(5) Are experiencing severe economic hardship as a direct result of the current crisis in Somalia.

This notice applies to F-1 nonimmigrant students in an approved private school in kindergarten through grade 12, public school grades 9 through 12, and undergraduate and graduate education. An F-1 nonimmigrant student covered by this notice who transfers to another SEVP-certified academic institution remains eligible for the relief provided by means of this notice.

Why is DHS taking this action?

DHS is taking action to provide relief to Somali F-1 nonimmigrant students experiencing severe economic hardship due to the current crisis in Somalia. Based on its review of country conditions in Somalia and input received from the U.S. Department of State, DHS is taking action to allow eligible F-1 nonimmigrant students from Somalia (or individuals having no nationality who last habitually resided in Somalia) to request employment authorization, work an increased number of hours while school is in session, and reduce their course load while continuing to maintain F-1 nonimmigrant student status.

Previously, DHS announced temporary relief to F-1 nonimmigrant students whose country of citizenship is Somalia, regardless of country of birth (or individuals having no nationality who last habitually resided in Somalia), and who experienced severe economic hardship because of the humanitarian crisis in Somalia. See 86 FR 38739 (July 22, 2021). That notice enabled these F-1 nonimmigrant students to request and obtain employment authorization, work an increased number of hours while school was in session, and reduce their course load, while continuing to maintain their F-1 nonimmigrant student status.

DHS conducted a thorough review of conditions in Somalia. Armed conflict involving state and non-state actors, in combination with interrelated climate, health, food security, and economic challenges, continues to undermine the physical security and wellbeing of the Somali population. Compounding these challenges is the difficulty of providing critical humanitarian aid to affected communities. Internally displaced persons and other vulnerable populations have been particularly impacted.

Al-Shabaab

The insurgent Islamist group al-Shabaab contests government control and continues to conduct an armed insurgency against the Federal Government of Somalia (FGS), resulting in death, injury, and displacement of civilians. Al-Shabaab is a well-organized and well-funded group with control over parts of Somalia.2 3 Al-Shabaab controls substantial territory in southern Somalia, planning and conducting terrorist attacks across the country, as well as attacks in northern Kenya and eastern Ethiopia. Al-Shabaab regularly conducts suicide bombings and targeted killings, as well as organized assaults against the Somali National Army (SNA), Somali Police Force (SPF) and the African Union Transition Mission in Somalia (ATMIS) (formerly the African Union Mission in Somalia (AMISOM)).

² Report of the Secretary-General on children and armed conflict in Somalia [S/2022/397], UN Security Council, May 16, 2022, pg. 3-5, available at https://www.ecoi.net/en/file/local/2076558/N2235204.pdf (last visited Sept. 7, 2022).

³ In 2008, the U.S. Government designated Al-Shabaab as a Foreign Terrorist Organization under Section 219 of the Immigration and Nationality Act (as amended) and as a Specially Designated Global Terrorist under Section 1(b) of Executive Order 13224 (as amended). Counter Terrorism Guide—Al-Shabaab, National Counterterrorism Center, available at https://www.dni.gov/nctc/groups/al_shabaab.html (last visited Nov. 18, 2022).

Al-Shabaab's multiple illegal funding streams, including extortion of local businesses and individuals and facilitation of illicit trades, generates around $100 million per year.⁴ Al-Shabaab is regarded as “al-Qaeda's largest, wealthiest and most deadly affiliate,” nearly doubling its attacks between 2015 and 2021 and continuing to pose an acute threat.⁵ On January 23, an al-Shabaab attack on the Mogadishu mayor's office killed five civilians.⁶ On November 27, 2022, Al-Shabaab gunmen killed at least six people in a Mogadishu hotel popular with government officials.⁷ One month earlier, Al-Shabaab claimed responsibility for two car bombs in Mogadishu that exploded at the education ministry next to a busy market intersection; President Hassan Sheikh Mohamud stated at the time that the bombings killed at least 100 people and wounded 300,⁸ representing Al-Shabaab's deadliest attack in five years.⁹ An Al-Shabaab attack on another hotel in Mogadishu in August 2022 killed 21 people and injured 117 others.¹⁰

⁴ Treasury Designates al-Shabaab Financial Facilitators, U.S. Dep't. of the Treasury, Oct. 17, 2022, available at https://home.treasury.gov/news/press-releases/jy1028 (last visited Nov. 3, 2022).

⁵ An attack on a military base in Somalia shows al-Shabab's deadly power, Washington Post, July 17, 2022, available at https://www.washingtonpost.com/world/2022/07/17/somalia-al-shabab-us-troops/ (last visited Nov. 22, 2022).

⁶ At Least Five Injured After Blast at Mayor's Office, Reuters, Jan. 22, 2023, available at https://www.reuters.com/world/africa/blast-heard-near-mayors-office-somalias-capital-mogadishu-witness-2023-01-22/ (last visited Jan. 22, 2023).

⁷ At Least Six Killed in Ongoing Terrorist Siege at Mogadishu Hotel, New York Times, Nov. 28, 2022, available at https://www.nytimes.com/2022/11/27/world/africa/mogadishu-shabab-hotel.html (last visited Nov. 28, 2022).

⁸ Car bombs at busy Somalia market intersection killed at least 100, president says, Reuters, Oct. 30, 2022, available at https://www.reuters.com/world/africa/somalia-president-least-100-people-killed-car-bombs-2022-10-30/ (last visited Nov. 1, 2022).

⁹ At Least Six Killed in Ongoing Terrorist Siege at Mogadishu Hotel, New York Times, Nov. 28, 2022, available at https://www.nytimes.com/2022/11/27/world/africa/mogadishu-shabab-hotel.html (last visited Nov. 28, 2022).

¹⁰ Somali PM Vows Accountability after Deadly Hotel Attack, VOA News, Aug. 22, 2022, available at https://www.voanews.com/a/somali-pm-vows-accountability-after-deadly-hotel-attack/6712021.html (last visited Nov. 3, 2022).

Somali security forces do not have the capacity to independently and consistently secure Somalia. When al-Shabaab regains control of towns that had been secured previously by pro-government forces, they have punished residents they suspected of cooperating with U.S. and pro-government forces by conducting public executions including beheadings, stonings, and other deadly forms of retaliation. Somali women and girls are disproportionately exposed to high levels of conflict-related sexual violence.

Al-Shabaab often used suicide bombers, mortars, and IEDs to attack civilian and military targets throughout Somalia. It also killed prominent peace activists, community leaders, clan elders, electoral delegates, and their family members for their roles in peace building, in addition to beheading persons accused of spying for and collaborating with Somali forces and affiliated militias. ISIS-Somalia remains active, planning and carrying out suicide bombings, armed assaults, assassinations, and small arms attacks in the Federal Member State (FMS) of Puntland and in the capital, Mogadishu.

Humanitarian Assistance

More than 7 million Somalis are in need of humanitarian assistance.¹¹ Compounding this challenge, armed groups deliberately restrict the passage of relief supplies and access by humanitarian organizations through the use of checkpoints, roadblocks, extortion, carjacking, and bureaucratic obstacles.¹² An estimated 740,000 people live in areas controlled by non-state actors, and some districts are regarded as inaccessible.¹³

¹¹ Somalia Key Figures, United Nations Office for the Coordination of Humanitarian Affairs (UNOCHA), available at https://m.reliefweb.int/country/216/som?figures-display=all (last visited Sept. 15, 2022). Estimate as of June 24, 2022.

¹² 2021 Country Reports on Human Rights Practices: Somalia, U.S. Dep't. of State, Apr. 12, 2022, available at https://www.state.gov/reports/2021-country-reports-on-human-rights-practices/somalia/ (last visited Sept. 13, 2022).

¹³ Somalia Situation Report, UNOCHA, Aug. 31, 2022, available at https://reports.unocha.org/en/country/somalia/ (last visited Nov. 28, 2022).

Vulnerable populations face particular protection challenges. Gender-based violence is underreported but widespread,¹⁴ with Internally Displaced Persons (IDPs) and members of marginalized clans and groups particularly at risk.¹⁵ Al-Shabaab continues to commit gender-based violence, including through child, early, and forced marriages.¹⁶ Children are often subject to recruitment by armed groups.¹⁷

¹⁴ Somalia: Protection Analysis Update (Feb. 2022), Global Protection Cluster/UN High Commissioner for Refugees, Feb. 9, 2022, pg. 4, available at https://reliefweb.int/report/somalia/somalia-protection-analysis-update-february-2022 (last visited Sept. 7, 2022).

¹⁵ 2021 Country Reports on Human Rights Practices: Somalia, U.S. Dep't. of State, Apr. 12, 2022, available at https://www.state.gov/reports/2021-country-reports-on-human-rights-practices/somalia/ (last visited Sept. 13, 2022).

¹⁶ Id.

¹⁷ Report of the Secretary-General on children and armed conflict in Somalia [S/2022/397], UN Security Council, May 16, 2022, pg. 2, available at https://www.ecoi.net/en/file/local/2076558/N2235204.pdf (last visited Nov. 18, 2022).

Health System

Somalia's overall health system, including its disease surveillance system, remains fragmented, under-resourced, and ill-equipped to provide lifesaving and preventative services.¹⁸ It is estimated that at least 6.5 million people need essential healthcare and nutrition services, with malnutrition, disease outbreaks, and conflict continuing to drive increased illness and excess deaths.¹⁹ It is estimated that only 19 percent of districts have adequate healthcare facilities.²⁰

¹⁸ 2022 Somalia Humanitarian Needs Overview, UNOCHA, Oct. 24, 2021, pg. 24, available at https://reliefweb.int/report/somalia/2022-somalia-humanitarian-needs-overview (last visited Sept. 13, 2022).

¹⁹ Somalia Complex Crisis—Overview, ACAPS, last updated on Sept. 9, 2022, available at https://www.acaps.org/country/somalia/crisis/complex-crisis (last visited Sept. 13, 2022).

²⁰ Id.

Climate Change and Violence

Climate change has intensified competition over declining resources, which in turn exacerbates clan divisions and inter-clan violence.²¹ Violence between clan militias has led to civilian casualties, destruction of civilian property, displacement, and obstruction of humanitarian assistance.²² Somalia is beset by “a culture of impunity due to clan protection of perpetrators [of abuses] and weak government capacity to hold the guilty to account.” ²³

²¹ 2022 Somalia Humanitarian Needs Overview, UNOCHA, Oct. 24, 2021, pg. 6, available at https://reliefweb.int/report/somalia/2022-somalia-humanitarian-needs-overview (last visited Sept. 13, 2022).

²² Panel of Experts on Somalia, UN Security Council, Oct. 6, 2021, pg. 13, available at https://documents-dds-ny.un.org/doc/UNDOC/GEN/N21/249/27/PDF/N2124927.pdf?OpenElement (last visited Sept. 7, 2022).

²³ 2021 Country Reports on Human Rights Practices: Somalia, U.S. Dep't. of State, Apr. 12, 2022, available at https://www.state.gov/reports/2021-country-reports-on-human-rights-practices/somalia/ (last visited Sept. 13, 2022).

Alongside conflict and violence, drought and flooding have been primary drivers of displacement, food insecurity, and malnutrition.²⁴ In March 2022, the UN assessed that, “Since December 2021, extreme drought conditions have affected about 4.9 million people, with about 719,000 displaced from their homes in search of water, food, and pasture as of March. The emergency is decimating the lives of people whose coping capacities were already eroded by decades of conflict, food shortages, climatic shocks, disease outbreaks, desert locust infestations and the COVID-19 pandemic.” ²⁵

²⁴ Somalia: Protection Analysis Update, Global Protection Cluster, UNHCR, Feb. 9, 2022, pg. 4, available at https://reliefweb.int/report/somalia/somalia-protection-analysis-update-february-2022 (last visited Sept. 12, 2022).

²⁵ Somalia Humanitarian Bulletin, March 2022, UNOCHA, Apr. 12, 2022, pg. 2, available at https://reliefweb.int/report/somalia/somalia-humanitarian-bulletin-march-2022 (last visited Sept. 13, 2022).

As of June 2022, more than 80 percent of the country was facing severe to extreme drought conditions.²⁶ As of December 2022, Somalia has experienced five consecutive seasons of poor rainfall and is likely to experience a sixth such season from March to June 2023.²⁷

²⁶ Somalia Complex Crisis—Overview, ACAPS, last updated on Sept. 9, 2022, available at https://www.acaps.org/country/somalia/crisis/complex-crisis (last visited Sept. 13, 2022).

²⁷ Nearly 8.3 million people across Somalia face Crisis (IPC Phase 3) or worse acute food insecurity outcomes, Famine Early Warning System Network (FEWS NET)/Food Security and Nutrition Analysis Unit (FSNAU)/Integrated Food Security Phase Classification (IPC), Dec. 13, 2022, pg. 1, available at https://reliefweb.int/report/somalia/nearly-83-million-people-across-somalia-face-crisis-ipc-phase-3-or-worse-acute-food-insecurity-outcomes (last visited Dec. 13, 2022).

Food Insecurity

Malnutrition in Somalia is driven by food insecurity, poor child feeding practices, diseases, and limited access to clean water and sanitation.²⁸ More than 1.7 million children under the age of five are acutely malnourished.²⁹ Moreover, conflict and disease outbreaks have exacerbated a spike in food prices.³⁰

²⁸ WFP Somalia Country Brief, May 2022, World Food Programme, May 31, 2022, pg. 1, available at https://reliefweb.int/report/somalia/wfp-somalia-country-brief-may-2022 (last visited Sept. 14, 2022).

²⁹ Somalia Key Figures, UNOCHA, available at https://m.reliefweb.int/country/216/som?figures-display=all (last visited Sept. 15, 2022). Estimate as of Sept. 12, 2022.

³⁰ Nearly 8.3 million people across Somalia face Crisis (IPC Phase 3) or worse acute food insecurity outcomes, FEWS NET/FSNAU/IPC, Dec. 13, 2022, pg. 1, available at https://reliefweb.int/report/somalia/nearly-83-million-people-across-somalia-face-crisis-ipc-phase-3-or-worse-acute-food-insecurity-outcomes (last visited Dec. 13, 2022).

The UN reports that 7.1 million people, accounting for 45 percent of the country, face at least “crisis” levels of food security, of which 2.1 million are experiencing even more serious “emergency” shortages that signify acute malnutrition and rising levels of death. Approximately 213,000 people are at the “catastrophe” ³¹ level, representing a 160 percent increase between April and June 2022, and characterized by an extreme lack of food that can result in starvation and death.³² The situation may further deteriorate if an anticipated decrease in humanitarian assistance for Somalia after March 2023 comes to pass, with the UN and its partners predicting that the number of Somalis facing “crisis” levels of food security—or worse—would grow to around 8.3 million between April and June 2023, of which 2.7 million would face “emergency” levels and at least 727,000 would face “catastrophe.” ³³

³¹ This designation is also referred to as “Famine” or “IPC Phase 5.” See Id.

³² Horn of Africa braces for `explosion of child deaths' as hunger crisis deepens, UN News, June 7, 2022, available at https://news.un.org/en/story/2022/06/1119862 (last visited Sept. 19, 2022).

³³ Nearly 8.3 million people across Somalia face Crisis (IPC Phase 3) or worse acute food insecurity outcomes, FEWS NET/FSNAU/IPC, Dec. 13, 2022, pg. 1, available at https://reliefweb.int/report/somalia/nearly-83-million-people-across-somalia-face-crisis-ipc-phase-3-or-worse-acute-food-insecurity-outcomes (last visited Dec. 13, 2022).

As of February 6, 2023, approximately 120 F-1 nonimmigrant students from Somalia are enrolled at SEVP-certified academic institutions in the United States. Given the extent of the current crisis in Somalia, affected students whose primary means of financial support comes from Somalia may need to be exempt from the normal student employment requirements to continue their studies in the United States. The current crisis has made it unfeasible for many students to safely return to Somalia for the foreseeable future. Without employment authorization, these students may lack the means to meet basic living expenses.

What is the minimum course load requirement to maintain valid F-1 nonimmigrant status under this notice?

Undergraduate F-1 nonimmigrant students who receive on-campus or off-campus employment authorization under this notice must remain registered for a minimum of six semester or quarter hours of instruction per academic term. Undergraduate F-1 nonimmigrant students enrolled in a term of different duration must register for at least one half of the credit hours normally required under a “full course of study.” See 8 CFR 214.2(f)(6)(i)(B) and (F). A graduate-level F-1 nonimmigrant student who receives on-campus or off-campus employment authorization under this notice must remain registered for a minimum of three semester or quarter hours of instruction per academic term. See 8 CFR 214.2(f)(5)(v). Nothing in this notice affects the applicability of other minimum course load requirements set by the academic institution.

In addition, an F-1 nonimmigrant student (either undergraduate or graduate) granted on-campus or off-campus employment authorization under this notice may count up to the equivalent of one class or three credits per session, term, semester, trimester, or quarter of online or distance education toward satisfying this minimum course load requirement, unless their course of study is in an English language study program.³⁴ See 8 CFR 214.2(f)(6)(i)(G). An F-1 nonimmigrant student attending an approved private school in kindergarten through grade 12 or public school in grades 9 through 12 must maintain “class attendance for not less than the minimum number of hours a week prescribed by the school for normal progress toward graduation,” as required under 8 CFR 214.2(f)(6)(i)(E). Nothing in this notice affects the applicability of federal and state labor laws limiting the employment of minors.

³⁴ DHS considers students who are compliant with ICE Coronavirus Disease 2019 (COVID-19) guidance for nonimmigrant students to be in compliance with regulations while such COVID-19 guidance remains in effect. See ICE Guidance and Frequently Asked Questions on COVID-19, https://www.ice.gov/coronavirus (last visited Nov. 23, 2022).

May an eligible F-1 nonimmigrant student who already has on-campus or off-campus employment authorization benefit from the suspension of regulatory requirements under this notice?

Yes. An F-1 nonimmigrant student who is a Somali citizen, regardless of country of birth (or an individual having no nationality who last habitually resided in Somalia), who already has on-campus or off-campus employment authorization and is otherwise eligible may benefit under this notice, which suspends certain regulatory requirements relating to the minimum course load requirement under 8 CFR 214.2(f)(6)(i) and certain employment eligibility requirements under 8 CFR 214.2(f)(9). Such an eligible F-1 nonimmigrant student may benefit without having to apply for a new Form I-766, Employment Authorization Document (EAD). To benefit from this notice, the F-1 nonimmigrant student must request that their designated school official (DSO) enter the following statement in the remarks field of the student's Student and Exchange Visitor Information System (SEVIS) record, which the student's Form I-20, Certificate of Eligibility for Nonimmigrant (F-1) Student Status, will reflect: Approved for more than 20 hours per week of [DSO must insert “on-campus” or “off-campus,” depending upon the type of employment authorization the student already has] employment authorization and reduced course load under the Special Student Relief authorization from [DSO must insert the beginning date of the notice or the beginning date of the student's employment, whichever date is later] until [DSO must insert either the student's program end date, the current employment authorization document (EAD) expiration date (if the student is currently authorized for off-campus employment), or the end date of this notice, whichever date comes first].³⁵

³⁵ Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of September 17, 2024, provided the student satisfies the minimum course load requirements in this notice.

Must the F-1 nonimmigrant student apply for reinstatement after expiration of this special employment authorization if the student reduces his or her “full course of study”?

No. DHS will deem an F-1 nonimmigrant student who receives and comports with the employment authorization permitted under this notice to be engaged in a “full course of study” ³⁶ for the duration of the student's employment authorization, provided that a qualifying undergraduate level F-1 nonimmigrant student remains registered for a minimum of six semester or quarter hours of instruction per academic term, and a qualifying graduate level F-1 nonimmigrant student remains registered for a minimum of three semester or quarter hours of instruction per academic term. See 8 CFR 214.2(f)(5)(v) and (f)(6)(i)(F). Undergraduate F-1 nonimmigrant students enrolled in a term of different duration must register for at least one half of the credit hours normally required under a “full course of study.” See 8 CFR 214.2(f)(6)(i)(B) and (F). DHS will not require such students to apply for reinstatement under 8 CFR 214.2(f)(16) if they are otherwise maintaining F-1 nonimmigrant status.

³⁶ See 8 CFR 214.2(f)(6).

Will an F-2 dependent (spouse or minor child) of an F-1 nonimmigrant student covered by this notice be eligible for employment authorization?

No. An F-2 spouse, or minor child of an F-1 nonimmigrant student is not authorized to work in the United States and, therefore, may not accept employment under F-2 nonimmigrant status, consistent with 8 CFR 214.2(f)(15)(i).

Will the suspension of the applicability of the standard student employment requirements apply to an individual who receives an initial F-1 visa and makes an initial entry into the United States after the effective date of this notice in the Federal Register?

No. The suspension of the applicability of the standard regulatory requirements only applies to certain F-1 nonimmigrant students who meet the following conditions:

(1) Are a citizen of Somalia regardless of country of birth (or an individual having no nationality who last habitually resided in Somalia);

(2) Were lawfully present in the United States on the date of publication of this notice in F-1 nonimmigrant status, under section 101(a)(15)(F)(i) of the INA, 8 U.S.C. 1101(a)(15)(F)(i);

(3) Are enrolled in an academic institution that is SEVP-certified for enrollment of F-1 nonimmigrant students;

(4) Are maintaining F-1 nonimmigrant status; and

(5) Are experiencing severe economic hardship as a direct result of the current crisis in Somalia.

An F-1 nonimmigrant student who does not meet all these requirements is ineligible for the suspension of the applicability of the standard regulatory requirements (even if experiencing severe economic hardship as a direct result of the current crisis in Somalia).

Does this notice apply to a continuing F-1 nonimmigrant student who departs the United States after the effective date of this notice in the Federal Registerand who needs to obtain a new F-1 visa before returning to the United States to continue an educational program?

Yes. This notice applies to such an F-1 nonimmigrant student, but only if the DSO has properly notated the student's SEVIS record, which will then appear on the student's Form I-20. The normal rules for visa issuance remain applicable to a nonimmigrant who needs to apply for a new F-1 visa to continue an educational program in the United States.

Does this notice apply to elementary school, middle school, and high school students in F-1 status?

Yes. However, this notice does not by itself reduce the required course load for F-1 nonimmigrant students from Somalia enrolled in kindergarten through grade 12 at a private school, or grades 9 through 12 at a public high school. Such students must maintain the minimum number of hours of class attendance per week prescribed by the academic institution for normal progress toward graduation, as required under 8 CFR214.2(f)(6)(i)(E). The suspension of certain regulatory requirements related to employment through this notice is applicable to all eligible F-1 nonimmigrant students regardless of educational level. Eligible F-1 nonimmigrant students from Somalia enrolled in an elementary school, middle school, or high school may benefit from the suspension of the requirement in 8 CFR 214.2(f)(9)(i) that limits on-campus employment to 20 hours per week while school is in session.

On-Campus Employment Authorization

Will an F-1 nonimmigrant student who receives on-campus employment authorization under this notice be authorized to work more than 20 hours per week while school is in session?

Yes. For an F-1 nonimmigrant student covered in this notice, the Secretary is suspending the applicability of the requirement in 8 CFR 214.2(f)(9)(i) that limits an F-1 nonimmigrant student's on-campus employment to 20 hours per week while school is in session. An eligible F-1 nonimmigrant student has authorization to work more than 20 hours per week while school is in session if the DSO has entered the following statement in the remarks field of the student's SEVIS record, which will be reflected on the student's Form I-20: Approved for more than 20 hours per week of on-campus employment and reduced course load, under the Special Student Relief authorization from [DSO must insert the beginning date of this notice or the beginning date of the student's employment, whichever date is later] until [DSO must insert the student's program end date or the end date of this notice, whichever date comes first].³⁷

³⁷ Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of September 17, 2024, provided the student satisfies the minimum course load requirements in this notice.

To obtain on-campus employment authorization, the F-1 nonimmigrant student must demonstrate to the DSO that the employment is necessary to avoid severe economic hardship directly resulting from the current crisis in Somalia. An F-1 nonimmigrant student authorized by the DSO to engage in on-campus employment by means of this notice does not need to file any applications with U.S. Citizenship and Immigration Services (USCIS). The standard rules permitting full-time employment on-campus when school is not in session or during school vacations apply, as described in 8 CFR 214.2(f)(9)(i).

Will an F-1 nonimmigrant student who receives on-campus employment authorization under this notice have authorization to reduce the normal course load and still maintain his or her F-1 nonimmigrant student status?

Yes. DHS will deem an F-1 nonimmigrant student who receives on-campus employment authorization under this notice to be engaged in a “full course of study” ³⁸ for the purpose of maintaining their F-1 nonimmigrant student status for the duration of the on-campus employment, if the student satisfies the minimum course load requirement described in this notice, consistent with 8 CFR 214.2(f)(6)(i)(F). However, the authorization to reduce the normal course load is solely for DHS purposes of determining valid F-1 nonimmigrant student status. Nothing in this notice mandates that school officials allow an F-1 nonimmigrant student to take a reduced course load if the reduction would not meet the academic institution's minimum course load requirement for continued enrollment.³⁹

³⁸ See 8 CFR 214.2(f)(6).

³⁹ Minimum course load requirement for enrollment in a school must be established in a publicly available document (e.g., catalog, website, or operating procedure), and it must be a standard applicable to all students (U.S. citizens and foreign students) enrolled at the school.

Off-Campus Employment Authorization

What regulatory requirements does this notice temporarily suspend relating to off-campus employment?

For an F-1 nonimmigrant student covered by this notice, as provided under 8 CFR 214.2(f)(9)(ii)(A), the Secretary is suspending the following regulatory requirements relating to off-campus employment:

(a) The requirement that a student must have been in F-1 nonimmigrant student status for one full academic year to be eligible for off-campus employment;

(b) The requirement that an F-1 nonimmigrant student must demonstrate that acceptance of employment will not interfere with the student's carrying a full course of study;

(c) The requirement that limits an F-1 nonimmigrant student's employment authorization to no more than 20 hours per week of off-campus employment while the school is in session; and (d) The requirement that the student demonstrate that employment under 8 CFR 214.2(f)(9)(i) is unavailable or otherwise insufficient to meet the needs that have arisen as a result of the unforeseen circumstances.

Will an F-1 nonimmigrant student who receives off-campus employment authorization under this notice have authorization to reduce the normal course load and still maintain F-1 nonimmigrant status?

Yes. DHS will deem an F-1 nonimmigrant student who receives off-campus employment authorization by means of this notice to be engaged in a “full course of study” ⁴⁰ for the purpose of maintaining F-1 nonimmigrant student status for the duration of the student's employment authorization if the student satisfies the minimum course load requirement described in this notice, consistent with 8 CFR 214.2(f)(6)(i)(F). However, the authorization for a reduced course load is solely for DHS purposes of determining valid F-1 nonimmigrant student status. Nothing in this notice mandates that school officials allow an F-1 nonimmigrant student to take a reduced course load if such reduced course load would not meet the school's minimum course load requirement.⁴¹

⁴⁰ See 8 CFR 214.2(f)(6).

⁴¹ Minimum course load requirement for enrollment in a school must be established in a publicly available document (e.g., catalog, website, or operating procedure), and it must be a standard applicable to all students (U.S. citizens and foreign students) enrolled at the school.

How may an eligible F-1 nonimmigrant student obtain employment authorization for off-campus employment with a reduced course load under this notice?

An F-1 nonimmigrant student must file a Form I-765, Application for Employment Authorization, with USCIS to apply for off-campus employment authorization based on severe economic hardship directly resulting from the current crisis in Somalia. Filing instructions are located at https://www.uscis.gov/i-765.

Fee considerations. Submission of a Form I-765 currently requires payment of a $410 fee. An applicant who is unable to pay the fee may submit a completed Form I-912, Request for Fee Waiver, along with the Form I-765, Application for Employment Authorization. See https://www.uscis.gov/forms/filing-fees/additional-information-on-filing-a-fee-waiver. The submission must include an explanation about why USCIS should grant the fee waiver and the reason(s) for the inability to pay, and any evidence to support the reason(s). See 8 CFR 103.7(c) (Oct. 1, 2020).

Supporting documentation. An F-1 nonimmigrant student seeking off-campus employment authorization due to severe economic hardship must demonstrate the following to their DSO:

(1) This employment is necessary to avoid severe economic hardship; and

(2) The hardship is a direct result of the current crisis in Somalia.

If the DSO agrees that the F-1 nonimmigrant student is entitled to receive such employment authorization, the DSO must recommend application approval to USCIS by entering the following statement in the remarks field of the student's SEVIS record, which will then appear on that student's Form I-20: Recommended for off-campus employment authorization in excess of 20 hours per week and reduced course load under the Special Student Relief authorization from the date of the USCIS authorization noted on Form I-766 until [DSO must insert the program end date or the end date of this notice, whichever date comes first].⁴²

⁴² Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of September 17, 2024, provided the student satisfies the minimum course load requirements in this notice.

The F-1 nonimmigrant student must then file the properly endorsed Form I-20 and Form I-765 according to the instructions for the Form I-765. The F-1 nonimmigrant student may begin working off campus only upon receipt of the employment authorization document (EAD) from USCIS.

DSO recommendation. In making a recommendation that an F-1 nonimmigrant student be approved for Special Student Relief, the DSO certifies that:

(a) The F-1 nonimmigrant student is in good academic standing and is carrying a “full course of study” ⁴³ at the time of the request for employment authorization;

⁴³ See 8 CFR 214.2(f)(6).

(b) The F-1 nonimmigrant student is a citizen of Somalia, regardless of country of birth (or an individual having no nationality who last habitually resided in Somalia), and is experiencing severe economic hardship as a direct result of the current crisis in Somalia, as documented on the Form I-20;

(c) The F-1 nonimmigrant student has confirmed that the student will comply with the reduced course load requirements of this notice and register for the duration of the authorized employment for a minimum of six semester or quarter hours of instruction per academic term if at the undergraduate level, or for a minimum of three semester or quarter hours of instruction per academic term if the student is at the graduate level; ⁴⁴ and

⁴⁴ 8 CFR 214.2(f)(5)(v).

(d) The off-campus employment is necessary to alleviate severe economic hardship to the individual as a direct result of the current crisis in Somalia.

Processing. To facilitate prompt adjudication of the student's application for off-campus employment authorization under 8 CFR 214.2(f)(9)(ii)(C), the F-1 nonimmigrant student should do both of the following:

(a) Ensure that the application package includes the following documents:

(1) A completed Form I-765 with all applicable supporting evidence;

(2) The required fee or properly documented fee waiver request as defined in 8 CFR 103.7(c) (Oct. 1, 2020); and

(3) A signed and dated copy of the student's Form I-20 with the appropriate DSO recommendation, as previously described in this notice; and

(b) Send the application in an envelope which is clearly marked on the front of the envelope, bottom right-hand side, with the phrase “SPECIAL STUDENT RELIEF.” ⁴⁵ Failure to include this notation may result in significant processing delays.

⁴⁵ Guidance for direct filing addresses can be found here: https://www.uscis.gov/i-765-addresses.

If USCIS approves the student's Form I-765, USCIS will send the student a Form I-766, EAD, as evidence of employment authorization. The EAD will contain an expiration date that does not exceed the end of the granted temporary relief.

Temporary Protected Status (TPS) Considerations

Can an F-1 nonimmigrant student apply for TPS and for benefits under this notice at the same time?

Yes. An F-1 nonimmigrant student who has not yet applied for TPS or for other relief that reduces the student's course load per term and permits an increased number of work hours per week, such as Special Student Relief,⁴⁶ under this notice has two options.

⁴⁶ See DHS Study in the States, Special Student Relief, https://studyinthestates.dhs.gov/students/special-student-relief (last visited Oct. 5, 2022).

Under the first option, the nonimmigrant student may apply for TPS according to the instructions in the USCIS notice designating Somalia for TPS elsewhere in this issue of the Federal Register. All TPS applicants must file a Form I-821, Application for Temporary Protected Status, with the appropriate fee (or request a fee waiver). Although not required to do so, if F-1 nonimmigrant students want to obtain a new TPS-related EAD that is valid through September 17, 2024, they must file Form I-765 and pay the Form I-765 fee (or request a fee waiver). An F-1 student who already has a TPS-related EAD will benefit from an automatic extension of the EAD through March 17, 2024, through the Federal Register notice extending the designation of Somalia for TPS. After receiving the TPS-related EAD, an F-1 nonimmigrant student may request that their DSO make the required entry in SEVIS, issue an updated Form I-20, as described in this notice, and notate that the nonimmigrant student has been authorized to carry a reduced course load and is working pursuant to a TPS-related EAD. So long as the nonimmigrant student maintains the minimum course load described in this notice, does not otherwise violate their nonimmigrant status, including as provided under 8 CFR 214.1(g), and maintains TPS, then the student maintains F-1 status and TPS concurrently.

Under the second option, the nonimmigrant student may apply for an EAD under Special Student Relief by filing Form I-765 with the location specified in the filing instructions. At the same time, the F-1 nonimmigrant student may file a separate TPS application, but must submit the Form I-821 according to the instructions provided in the Federal Register notice designating Somalia for TPS. If the F-1 nonimmigrant student has already applied for employment authorization under Special Student Relief, they are not required to submit the Form I-765 as part of the TPS application. However, some nonimmigrant students may wish to obtain a TPS EAD in light of certain extensions that may be available to EADs with an A-12 or C-19 category code that are not available to the C-3 category under which Special Student Relief falls. The nonimmigrant student should check the appropriate box when filling out Form I-821 to indicate whether a TPS-related EAD is being requested. Again, so long as the nonimmigrant student maintains the minimum course load described in this notice and does not otherwise violate the student's nonimmigrant status, included as provided under 8 CFR 214.1(g), the nonimmigrant will be able to maintain compliance requirements for F-1 nonimmigrant student status while having TPS.

When a student applies simultaneously for TPS and benefits under this notice, what is the minimum course load requirement while an application for employment authorization is pending?

The F-1 nonimmigrant student must maintain normal course load requirements for a “full course of study” ⁴⁷ unless or until the nonimmigrant student receives employment authorization under this notice. TPS-related employment authorization, by itself, does not authorize a nonimmigrant student to drop below twelve credit hours, or otherwise applicable minimum requirements (e.g., clock hours for non-traditional academic programs). Once approved for Special Student Relief employment authorization, the F-1 nonimmigrant student may drop below twelve credit hours, or otherwise applicable minimum requirements (with a minimum of six semester or quarter hours of instruction per academic term if at the undergraduate level, or for a minimum of three semester or quarter hours of instruction per academic term if at the graduate level). See 8 CFR 214.2(f)(5)(v), (f)(6), and (f)(9) (i) and (ii).

⁴⁷ See 8 CFR 214.2(f)(6).

How does a student who has received a TPS-related EAD then apply for authorization to take a reduced course load under this notice?

There is no further application process with USCIS if a student has been approved for a TPS-related EAD. The F-1 nonimmigrant student must demonstrate and provide documentation to the DSO of the direct economic hardship resulting from the current crisis in Somalia. The DSO will then verify and update the student's record in SEVIS to enable the F-1 nonimmigrant student with TPS to reduce the course load without any further action or application. No other EAD needs to be issued for the F-1 nonimmigrant student to have employment authorization.

Can a noncitizen who has been granted TPS apply for reinstatement of F-1 nonimmigrant student status after the noncitizen's F-1 nonimmigrant student status has lapsed?

Yes. Regulations permit certain students who fall out of F-1 nonimmigrant student status to apply for reinstatement. See 8 CFR 214.2(f)(16). This provision might apply to students who worked on a TPS-related EAD or dropped their course load before publication of this notice, and therefore fell out of student status. These students must satisfy the criteria set forth in the F-1 nonimmigrant student status reinstatement regulations.

How long will this notice remain in effect?

This notice grants temporary relief through September 17, 2024,⁴⁸ to eligible F-1 nonimmigrant students. DHS will continue to monitor the situation in Somalia. Should the special provisions authorized by this notice need modification or extension, DHS will announce such changes in the Federal Register.

⁴⁸ Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of September 17, 2024, provided the student satisfies the minimum course load requirements in this notice. DHS also considers students who engage in online coursework pursuant to U.S. Immigration and Customs Enforcement (ICE) Coronavirus Disease 2019 (COVID-19) guidance for nonimmigrant students to be in compliance with regulations while such guidance remains in effect. See ICE Guidance and Frequently Asked Questions on COVID-19, Nonimmigrant Students & SEVP-Certified Schools: Frequently Asked Questions, https://www.ice.gov/coronavirus (last visited Nov. 23, 2022).

Paperwork Reduction Act (PRA)

An F-1 nonimmigrant student seeking off-campus employment authorization due to severe economic hardship resulting from the current crisis in Somalia must demonstrate to the DSO that this employment is necessary to avoid severe economic hardship. A DSO who agrees that a nonimmigrant student should receive such employment authorization must recommend an application approval to USCIS by entering information in the remarks field of the student's SEVIS record. The authority to collect this information is in the SEVIS collection of information currently approved by the Office of Management and Budget (OMB) under OMB Control Number 1653-0038.

This notice also allows an eligible F-1 nonimmigrant student to request employment authorization, work an increased number of hours while the academic institution is in session, and reduce their course load while continuing to maintain F-1 nonimmigrant student status.

To apply for employment authorization, certain F-1 nonimmigrant students must complete and submit a currently approved Form I-765 according to the instructions on the form. OMB has previously approved the collection of information contained on the current Form I-765, consistent with the PRA (OMB Control No. 1615-0040). Although there will be a slight increase in the number of Form I-765 filings because of this notice, the number of filings currently contained in the OMB annual inventory for Form I-765 is sufficient to cover the additional filings. Accordingly, there is no further action required under the PRA.

Alejandro Mayorkas,
Secretary, U.S. Department of Homeland Security.

[FR Doc. 2023-04737 Filed 3-7-23; 8:45 am]

BILLING CODE 9111-28-P